DEPARTMENT OF THE INTERIOR

National Park Service

[NPS-WASO-NAGPRA-NPS0037075; PPWOCRADN0-PCU00RP14.R50000]

Notice of Inventory Completion: Grand Rapids Public Museum, Grand Rapids, MI

AGENCY: National Park Service, Interior.

ACTION: Notice.

SUMMARY: In accordance with the Native American Graves Protection and Repatriation Act (NAGPRA), the Grand Rapids Public Museum, Michigan has completed an inventory of human remains and associated funerary objects and has determined that there is a cultural affiliation between the human remains and associated funerary objects and Indian Tribes or Native Hawaiian organizations in this notice. The human remains and associated funerary objects were removed from San Joaquin County, CA.

DATES: Repatriation of the human remains and associated funerary objects in this notice may occur on or after January 18, 2024.

ADDRESSES: Alex Forist, Chief Curator, Grand Rapids Public Museum. 272 Pearl Street NW, Grand Rapids, MI 49504, telephone (616) 929-1809, email aforist@grpm.org.

SUPPLEMENTARY INFORMATION: This notice is published as part of the National Park Service's administrative responsibilities under NAGPRA. The determinations in this notice are the sole responsibility of the Grand Rapids Public Museum. The National Park Service is not responsible for the determinations in this notice. Additional information on the determinations in this notice, including the results of consultation, can be found in the inventory or related records held by the Grand Rapids Public Museum.

Description

Human remains representing, at minimum, two individuals were removed from San Joaquin County, CA. In the early 1880s, Mr. E. D. Zimmerman, an amateur archeologist, excavated a burial mound at the Leon Ranch in Stockton. At an unknown date, these human remains (and associated funerary objects) were purchased by Herman J. Rush (b. 1902—d. 1965), a collector from Belvidere, New Jersey from a sale of Zimmerman's collection. In the 1960s, Dr. Ruth Herrick, a collector in Grand Rapids, Michigan, purchased these human remains (and associated funerary objects) from Rush, and in 1974, the Grand Rapids Public Museum acquired them from Herrick by bequest. The human remains consist of one glass vial containing cremated human hair and one vial containing cremated cerebral matter. The 18 associated funerary objects are one burned shell, one lot consisting of cremated seeds, one lot consisting of burned pinon nuts, two lots consisting of wampum, one vial containing vermillion, one lot consisting of red paint, one lot consisting of burned beads, one bone gouge, one awl, one shell pendant, one Medicine Man's hollow bone tube, one hollow bone tube, one spear, three bone fish skewers, and one bone fish gorge.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological, geographical, historical, and oral traditional.

Determinations

Pursuant to NAGPRA and its implementing regulations, and after consultation with the appropriate Indian Tribes and Native Hawaiian organizations, the Grand Rapids Public Museum has determined that:

• The human remains described in this notice represent the physical remains of two individuals of Native American ancestry.

• The 18 objects described in this notice are reasonably believed to have been placed with or near individual human remains at the time of death or later as part of the death rite or ceremony.

• There is a relationship of shared group identity that can be reasonably traced between the human remains and associated funerary objects described in this notice and the Buena Vista Rancheria of Me-Wuk Indians of California; California Valley Miwok Tribe, California; Cher-Ae Heights Indian Community of the Trinidad Rancheria, California; Chicken Ranch Rancheria of Me-Wuk Indians of California; Federated Indians of Graton Rancheria, California; Guidiville Rancheria of California; Ione Band of Miwok Indians of California; Middletown Rancheria of Pomo Indians of California; Picayune Rancheria of the Chukchansi Indians of California; Santa Rosa Indian Community of the Santa Rosa Rancheria, California; Shingle Springs Band of Miwok Indians, Shingle Springs Rancheria (Verona Tract), California; Table Mountain Rancheria; Tule River Indian Tribe of the Tule River Reservation, California; Tuolumne Band of Me-Wuk Indians of the Tuolumne Rancheria of California; United Auburn Indian Community of the Auburn Rancheria, California; and the Wilton Rancheria, California.

Requests for Repatriation

Written requests for repatriation of the human remains and associated funerary objects in this notice must be sent to the Responsible Official identified in ADDRESSES. Requests for repatriation may be submitted by:

1. Any one or more of the Indian Tribes identified in this notice and, if joined to a request from one or more of the Indian Tribes, the Muwekma Ohlone Indian Tribe of the SF Bay Area, California; Nashville Enterprise Miwok-Maidu-Nishinam Tribe, California; North Valley Yokuts Tribe, California; Wuksache Indian Tribe/Eshom Valley Band, California; and the Confederated Villages of Lisjan Nation.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after January 18, 2024. If competing requests for repatriation are received, the Grand Rapids Public Museum must determine the most appropriate requestor prior to repatriation. Requests for joint repatriation of the human remains and associated funerary objects are considered a single request and not competing requests. The Grand Rapids Public Museum is responsible for sending a copy of this notice to the Indian Tribes identified in this notice.

Authority: Native American Graves Protection and Repatriation Act, 25 U.S.C. 3003, and the implementing regulations, 43 CFR 10.9, 10.10, and 10.14.

Dated: December 8, 2023.
Melanie O'Brien,
Manager, National NAGPRA Program.

[FR Doc. 2023-27788 Filed 12-18-23; 8:45 am]

BILLING CODE 4312-52-P